DEPARTMENT OF TRANSPORTATION

Federal Aviation Administration

14 CFR Part 73

[Docket No. FAA-2009-1050; Airspace Docket No. 09-ASW-40]

RIN 2120-AA66

Amendment and Establishment of Restricted Areas and Other Special Use Airspace, Razorback Range Airspace Complex, AR

AGENCY: Federal Aviation Administration (FAA), DOT.

ACTION: Final rule; correction.

SUMMARY: This action corrects a final rule published in the Federal Register on July 29, 2010; Airspace Docket No. 09-ASW-40, FAA Docket No. FAA-2009-1050. Subsequent to publishing the final rule, three geographic coordinates along Arkansas State Highway 10 and three geographic coordinates along Arkansas State Highway 22 that were used in defining the boundary for restricted areas R-2402A, R-2402B, and R-2402C changed in the aeronautical database. This action corrects those coordinates in the respective airspace descriptions.

DATES: Effective date 0901 UTC, November 18, 2010.

FOR FURTHER INFORMATION CONTACT: Colby Abbott, Airspace Regulations and ATC Procedures Group, Office of Airspace Services, Federal Aviation Administration, 800 Independence Avenue, SW., Washington, DC 20591; telephone: (202) 267-8783.

SUPPLEMENTARY INFORMATION:

History

On July 29, 2010, a final rule was published in the Federal Register to establish two restricted areas (R-2402B and R-2402C) and amend an existing restricted area (renaming R-2402 to R-2402A) in the Razorback Range Airspace Complex, AR (75 FR 44719). As a result of further review, the FAA's National Aeronautical Navigation Services (formerly the National Aeronautical Charting Office) and Memphis air route traffic control center determined that a minor refinement was needed for the geographic coordinates used to define where the restricted area boundaries intersected Arkansas State Highways 10 and 22. The correction adjusts the six geographic coordinates defining the points where the restricted areas intersect and overlay those highways.

List of Subjects in 14 CFR Part 73

Airspace, Prohibited areas, Restricted areas.

Correction to Final Rule

Accordingly, pursuant to the authority delegated to me, the legal descriptions for R-2402A, R-2402B, and R-2402C, Fort Chaffee, AR, as published in the Federal Register on July 29, 2010, (75 FR 44719), FR Doc. 2010-18665, and incorporated by reference in 14 CFR part 73, are corrected as follows:

§ 73.24 [Amended]

On page 44720, columns 1 and 2, correct the boundaries descriptions for R-2402A, R-2402B, and R-2402C, Fort Chaffee, AR, to read as follows:

* * * * *

R-2402A Fort Chaffee, AR [Corrected]

By removing the boundaries description and substituting:

Boundaries. Beginning at lat. 35°17′49″ N., long. 94°03′01″ W.; to lat. 35°17′00″ N., long. 94°03′01″ W.; to lat. 35°17′00″ N., long. 94°01′01″ W.; to lat. 35°10′05″ N., long. 94°01′01″ W.; thence west along Arkansas State Highway No. 10 to lat. 35°11′35″ N., long. 94°12′01″ W. to lat. 35°13′50″ N., long. 94°12′01″ W.; to lat. 35°18′10″ N., long. 94°12′01″ W.; to lat. 35°18′10″ N., long. 94°09′54″ W.; thence east along Arkansas State Highway No. 22 to the point of beginning.

* * * * *

R-2402B Fort Chaffee, AR [Corrected]

By removing the boundaries description and substituting:

Boundaries. Beginning at lat. 35°18′22″ N., long. 93°55′38″ W.; thence clockwise along a 7-NM radius circle centered at lat. 35°15′26″ N., long. 94°03′24″ W.; to lat. 35°10′42″ N., long. 94°09′43″ W.; thence east along Arkansas State Highway 10 to lat. 35°10′05″ N., long. 94°01′01″ W.; to lat. 35°17′00″ N., long. 94°01′01″ W.; to lat. 35°17′00″ N., long. 94°03′01″ W.; to lat. 35°17′49″ N., long. 94°03′01″ W.; thence east along Arkansas State Highway 22 to the point of beginning.

* * * * *

R-2402C Fort Chaffee, AR [Corrected]

By removing the boundaries description and substituting:

Boundaries. Beginning at lat. 35°21′48″ N., long. 94°06′59″ W.; thence clockwise along a 7-NM radius circle centered lat lat. 35°15′26″ N., long. 94°03′24″ W.; to lat. 35°18′22″ N., long. 93°55′38″ W.; thence west along Arkansas State Highway 22 to lat. 35°18′10″ N., long. 94°09′54″ W.; to the point of beginning.

* * * * *

Issued in Washington, DC, on October 14, 2010.
Edith V. Parish,
Manager, Airspace Regulations and ATC Procedures Group.

[FR Doc. 2010-26568 Filed 10-21-10; 8:45 am]

BILLING CODE 4910-13-P